DEPARTMENT OF AGRICULTURE

Federal Crop Insurance Corporation

7 CFR Part 457

[Docket No. FCIC-17-0003]

RIN 0563-AC59

Common Crop Insurance Regulations; Cultivated Clam Crop Insurance Provisions

AGENCY: Federal Crop Insurance Corporation, USDA.

ACTION: Final rule with request for comments; correcting amendment.

SUMMARY: This document contains necessary amendments to apply a technical correction to the final rule with request for comments for the Cultivated Clam Crop Insurance Provisions which published in the Federal Register on December 27, 2017.

DATES: Effective Date: April 17, 2018.

FOR FURTHER INFORMATION CONTACT: Ron Lundine, Director, Product Management, Actuarial and Product Design Division, Risk Management Agency, United States Department of Agriculture, Beacon Facility, Stop 0812, Room 421, P.O. Box 419205, Kansas City, MO 64141-6205, telephone (816) 926-3854.

SUPPLEMENTARY INFORMATION:

Background

This technical correction is being published to remove section 15 of the “cultivated clam crop insurance provisions,” published December 27, 2017 (Docket No. FCIC-17-0003). Section 15 excludes the use of written agreements by not allowing the written agreement provisions in the Common Crop Insurance Policy Basic Provisions to apply. This provision was necessary when the program was a pilot program to ensure there were no changes made to the policy so that the existing terms would be evaluated to make sure they were actuarially sound and there were no program integrity issues. Once the pilot program is completed, evaluated, and approved for permanence, the restriction on written agreements is no longer necessary. As a result of the removal of section 15, FCIC is allowing the use of written agreements under the cultivated clam crop provisions and redesignating subtitle numbering from section 16 to section 15, section 17 to section 16, and section 18 to section 17.

List of Subjects in 7 CFR Part 457

Crop insurance, Cultivated clam, Reporting and recordkeeping requirements.

Accordingly, 7 CFR part 457 is corrected by making the following amendments:

PART 457—COMMON CROP INSURANCE REGULATIONS

1. The authority citation for 7 CFR part 457 continues to read as follows:

Authority: 7 U.S.C. 1506(l) and 1506(o).

§ 457.176 [Amended]

2. Amend § 457.176, in the cultivated clam crop insurance provisions, by removing section 15 and redesignating sections 16 through 18 as sections 15 through section 17.

Signed in Washington, DC, on April 12, 2018.
Heather Manzano,
Acting Manager, Federal Crop Insurance Corporation.

[FR Doc. 2018-08017 Filed 4-16-18; 8:45 am]

BILLING CODE 3410-08-P